DEPARTMENT OF COMMERCE

National Oceanic and Atmospheric Administration

[RTID 0648-XA053]

Take of Marine Mammals Incidental to Specified Activities; Taking Marine Mammals Incidental to the Hampton Roads Bridge-Tunnel Expansion Project, Hampton-Norfolk, Virginia

Correction

In notice document 2020-05807 beginning on page 16194 in the issue of Friday, March 20, 2020, make the following correction:

On page 16214, the graphic should appear as follows:

BILLING CODE 1301-00-P

[FR Doc. C1-2020-05807 Filed 4-2-20; 8:45 am]

BILLING CODE 1301-00-D